DEPARTMENT OF AGRICULTURE

Agricultural Research Service

National Agricultural Library; Notice of Intent To Seek Approval To Collect Information

AGENCY: USDA, Agricultural Research Service, National Agricultural Library.

ACTION: Notice and request for comments.

SUMMARY: In accordance with the Paperwork Reduction Act of 1995 (Pub. L. 104-13) and Office of Management and Budget (OMB) regulations at 5 CFR Part 1320 (60 FR 44978, August 29, 1995), this notice announces the National Agricultural Library's intent to request approval for a new information collection relating to existing nutrition education materials (i.e. recipes and cookbooks) targeting low-income persons. This voluntary form gives Food Stamp nutrition education providers the opportunity to share resources that they have developed or used.

DATES: Comments on this notice must be received by February 22, 2005 to be assured of consideration.

ADDRESSES: Address all comments concerning this notice to Shannon Fries, Technical Information Specialist, Food and Nutrition Information Center, National Agricultural Library, 10301 Baltimore Avenue, Beltsville, MD, 20705-2351, telephone (301) 504-5368 or fax (301) 504-6409. Submit electronic comments to sfries@nal.usda.gov

SUPPLEMENTARY INFORMATION: Title: Food Stamp Nutrition Connection Recipe Submission Form.

OMB Number: PRA#.

Expiration Date: Three years from date of approval.

Type of Request: New data collection from Food Stamp nutrition education providers.

Abstract: The National Agricultural Library's Food Stamp Nutrition Connection (FSNC) http://www.nal.usda.gov/foodstamp/ resource system has developed an on-line recipe database, the Recipe Finder, as an added feature to the FSNC Web site to be launched early in Fiscal Year 2005. The purpose of the recipe database is to provide Food Stamp Program nutrition educators with low-cost, easy to prepare, healthy recipes for classes and demonstrations with Food Stamp Program participants. We rely on these same educators to submit their best recipes to us for review, analysis and posting in the database. Data collected using this form will help identify a person's eligibility to submit materials for this database. The proposed voluntary “FSNC Recipe Submission Form” would allow nutrition education providers to submit recipes on-line and save time and money photocopying and mailing recipes. This will provide a fast and accurate vehicle for us to communicate and inform others of the recipes that target low-income Americans.

Estimate of Burden: Public reporting burden for this collection of information is estimated to average 7.5 minutes per response.

Respondents: Food Stamp nutrition education providers.

Estimated Number of Respondents: 100 per year.

Estimated Total Annual Burden on Respondents: 12.5 hrs.

Comments

Comments are invited on (a) whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: December 1, 2004.
Edward B. Knipling,
Administrator, Agricultural Research Service.

[FR Doc. 04-27599 Filed 12-16-04; 8:45 am]

BILLING CODE 3410-03-P